DEPARTMENT OF HEALTH AND HUMAN SERVICES

National Institutes of Health

National Cancer Institute Amended; Notice of Meeting

Notice is hereby given of a change in the meeting of the National Cancer Institute Special Emphasis Panel, March 11, 2015 02:00 p.m. to March 11, 2015, 04:00 p.m., National Cancer Institute Shady Grove, 9609 Medical Center Drive, Rockville, MD, 20850 which was published in the Federal Register on December 16, 2014, 79 FR 74734.

The meeting notice is amended to change the meeting date from March 11, 2015 to April 08, 2015, and the Contact Person from Dr. Robert Bird to Dr. Sergei Radaev, Telephone Number: 240-276-6466. The location remains the same; however, the room has changed to 7W114. The meeting is closed to the public.

Dated: March 6, 2015.
Melanie J. Gray,
Program Analyst, Office of Federal Advisory Committee Policy.

[FR Doc. 2015-05567 Filed 3-11-15; 8:45 am]

BILLING CODE 4140-01-P